Executive Order 13302 of May 15, 2003

Amending Executive Order 13212, Actions to Expedite

Energy-Related Projects

By the authority vested in me as President by the Constitution and the laws of the United States, including section 60133 of title 49, United States Code, and section 301 of title 3, United States Code, it is hereby ordered as follows:

Section 1. Amendments to Executive Order 13212. Executive Order 13212 of May 18, 2001, as amended, is further amended by:

(a) in section 1, immediately before the period at the end of the section, inserting “and projects that will strengthen pipeline safety”;

(b) in section 2, after “energy-related projects” inserting “(including pipeline safety projects)”; and

(c) revising section 3 to read as follows:

“Sec. 3. Interagency Task Force. (a) There is established, within the Department of Energy for administrative purposes, an interagency task force (Task Force) to perform the following functions: (i) monitor and assist the agencies in their efforts to expedite their reviews of permits or similar actions, as necessary, to accelerate the completion of energy-related projects (including pipeline safety projects), increase energy production and conservation, and improve the transmission of energy;

(ii) monitor and assist agencies in setting up appropriate mechanisms to coordinate Federal, State, tribal, and local permitting in geographic areas where increased permitting activity is expected; and

(iii) perform the functions of the interagency committee for which section 60133 of title 49, United States Code, provides.

(b)(i) The Task Force shall consist exclusively of the following members:

(A) in the performance of all Task Force functions set out in sections 3(a)(i) and (ii) of this order, the Secretaries of State, the Treasury, Defense, Agriculture, Housing and Urban Development, Commerce, Transportation, the Interior, Labor, Education, Health and Human Services, Energy, and Veterans Affairs, the Attorney General, the Administrator of the Environmental Protection Agency, the Director of Central Intelligence, the Administrator of General Services, the Director of the Office of Management and Budget, the Chairman of the Council of Economic Advisers, the Assistant to the President for Domestic Policy, the Assistant to the President for Economic Policy, and such other heads of agencies as the Chairman of the Council on Environmental Quality may designate; and

(B) in the performance of the functions to which section 3(a)(iii) of this order refers, the officers listed in section 60133(a)(2)(A)-(H) of title 49, United States Code, and such other representatives of Federal agencies with responsibilities relating to pipeline repair projects as the Chairman of the Council on Environmental Quality may designate.

(ii) A member of the Task Force may designate, to perform the Task Force functions of the member, a full-time officer or employee of that member's agency or office.

(c) The Chairman of the Council on Environmental Quality shall chair the Task Force.

(d) Consultation in the implementation of this order with State and local officials and other persons who are not full-time or permanent part-time employees of the Federal Government shall be conducted in a manner that elicits fully the individual views of each official or other person consulted, without deliberations or efforts to achieve consensus on advice or recommendations.

(e) This order shall be implemented in a manner consistent with the President's constitutional authority to supervise the unitary executive branch.”

Sec. 2. Judicial Review. This order is intended only to improve the internal management of the Federal Government, and is not intended to, and does not, create any right or benefit, substantive or procedural, enforceable at law or in equity by a party against the United States, its agencies, instrumentalities or entities, its officers or employees, or any other person.

B

THE WHITE HOUSE,

Washington, May 15, 2003.

[FR Doc. 03-12766

Filed 5-19-03; 8:45 am]

Billing code 3195-01-P